DEPARTMENT OF TRANSPORTATION

Federal Aviation Administration

Research, Engineering and Development Advisory Committee

Pursuant to section 10(A)(2) of the Federal Advisory Committee Act (Pub. L. 92-463; 5 U.S.C. App. 2), notice is hereby given of a meeting of the FAA Research, Engineering and Development (R,E&D) Advisory Committee.

AGENCY: Federal Aviation Administration, DOT.

ACTION: Notice of Meeting.

Name: Research, Engineering & Development Advisory Committee.

Time and Date: April 18, 2012—9:30 a.m. to 4 p.m.

Place: Federal Aviation Administration, 800 Independence Avenue SW—Round Room (10th Floor), Washington, DC 20591.

Purpose: The meeting agenda will include receiving from the Committee guidance for FAA's research and development investments in the areas of air traffic services, airports, aircraft safety, human factors and environment and energy. Attendance is open to the interested public but seating is limited. Persons wishing to attend the meeting or obtain information should contact Gloria Dunderman at (202) 267-8937 or gloria.dunderman@faa.gov. Attendees will have to present picture ID at the security desk and be escorted to the Round Room. Members of the public may present a written statement to the Committee at any time.

Issued in Washington, DC on February 24, 2012.
Wilson Felder,
Director, William J. Hughes Technical Center.

[FR Doc. 2012-5690 Filed 3-8-12; 8:45 a.m.]

BILLING CODE 4910-13-M